NATIONAL CREDIT UNION ADMINISTRATION

Renewals of Agency Information Collections for Comments Request: Proposed Collections

AGENCY: National Credit Union Administration (NCUA).

ACTION: Notice and request for comments.

SUMMARY: The National Credit Union Administration (NCUA) will submit the following information collection requests to the Office of Management and Budget (OMB) for review and clearance in accordance with the Paperwork Reduction Act of 1995, on or after the date of publication of this notice.

DATES: Written comments should be received on or before May 6, 2024 to be assured consideration.

ADDRESSES: Interested persons are invited to submit written comments on the information collection to Mahala Vixamar, National Credit Union Administration, 1775 Duke Street, Alexandria, Virginia 22314, Suite 5067; Fax No. 703-519-8579; or Email at PRAComments@NCUA.gov.

FOR FURTHER INFORMATION CONTACT: Copies of the submission may be obtained by contacting Mahala Vixamar at (703) 718-1155.

SUPPLEMENTARY INFORMATION:

OMB Number: 3133-0133.

Title: Investment and Deposit Activities, 12 CFR part 703.

Type of Review: Extension of a previously approved collection.

Abstract: The National Credit Union Administration (NCUA) Federal Credit Union Act, 12 U.S.C. 1757(7), 1757(8), 1757(15), lists securities, deposits, and other obligations in which a Federal Credit Union (FCU) may invest. The regulations related to these areas are contained in Part 703 and Section 721.3 of the NCUA Rules and Regulations, which set forth requirements related to maintaining an adequate investment program. The information collected is used by the NCUA to determine compliance with the appropriate sections of the NCUA Rules and Regulations and FCU Act, which governs investment and deposit activities on the basis of safety and soundness concerns. It is used to determine the level of risk that exists within a credit union, the actions taken by the credit union to mitigate such risk, and helps prevent losses to federal credit unions and the National Credit Union Share Insurance Fund (NCUSIF).

Affected Public: Private Sector: Not-for-profit institutions.

Estimated Total Annual Burden Hours: 54,501.

OMB Number: 3133-0190.

Title: Loans in Areas Having Special Flood Hazards, 12 CFR 760.

Type of Review: Extension of a previously approved collection.

Abstract: This collection of information is set forth in NCUA regulations at 12 CFR part 760 and is required by the National Flood Insurance Reform Act of 1994's amendments to the National Flood Insurance Act of 1968 and the Flood Disaster Protection Act of 1973 (Flood Act). The collection of information pertains to loans secured by buildings and mobile homes located or to be located in areas determined by the Director of the Federal Emergency Management Agency (FEMA) to have special flood hazards.

Affected Public: Private Sector: Not-for-profit institutions.

Estimated Total Annual Burden Hours: 185,213.

OMB Number: 3133-0195.

Title: Minority Depository Institution Preservation Program.

Type of Review: Extension of a previously approved collection.

Abstract: Dodd Frank Act amended sec. 308 of the FIRREA to require NCUA, Office of the Comptroller of Currency, and the Federal Reserve Board to establish a program to comply with its goals to preserve and encourage Minority Depository Institutions (MDIs). The NCUA Board issued Interpretive Ruling and Policy Statement (IRPS) 13-1 establishing a MDI preservation program to comply with FIRREA § 308 goals. The IRPS identifies the procedure for a federally insured credit union to determine and document its ability to designate itself as a MDI, resulting in the ability to participate in the Program.

Affected Public: Private Sector: Not-for-profit institutions.

Estimated Total Annual Burden Hours: 38.

Request for Comments: Comments submitted in response to this notice will be summarized and included in the request for Office of Management and Budget approval. All comments will become a matter of public record. The public is invited to submit comments concerning: (a) whether the collection of information is necessary for the proper performance of the function of the agency, including whether the information will have practical utility; (b) the accuracy of the agency's estimate of the burden of the collection of information, including the validity of the methodology and assumptions used; (c) ways to enhance the quality, utility, and clarity of the information to be collected; and (d) ways to minimize the burden of the collection of the information on the respondents, including the use of automated collection techniques or other forms of information technology.

By the National Credit Union Administration Board.
Melane Conyers-Ausbrooks,
Secretary of the Board.

[FR Doc. 2024-04688 Filed 3-5-24; 8:45 am]

BILLING CODE 7535-01-P